DEPARTMENT OF COMMERCE

Economic Development Administration

[Docket No. 991215339-4131-10]

Economic Development Assistance Programs

AGENCY: Economic Development Administration (EDA), Department of Commerce (DOC).

ACTION: Notice of Federal Funding Opportunity (FFO).

SUMMARY: The Economic Development Administration (EDA) announces general policies and application procedures for grant-based investments that will increase prosperity by advancing comprehensive, entrepreneurial, and innovation-based economic development efforts to enhance the competitiveness of regional business environments, resulting in increased private investment and higher-skill, higher-wage jobs.

DATES: Proposals are accepted on a continuing basis and applications are invited and processed as received. Normally, two months are required for a final decision after the receipt of a completed application invited by EDA that meets all requirements.

ADDRESSES: For applicants in Alabama, Florida, Georgia, Kentucky, Mississippi, North Carolina, South Carolina or Tennessee, please send proposals to: Economic Development Administration, Atlanta Regional Office, 401 West Peachtree Street, NW., Suite 1820, Atlanta, Georgia 30308-3510, Telephone: (404) 730-3002, Fax: (404) 730-3025.

For applicants in Arkansas, Louisiana, New Mexico, Oklahoma or Texas, please send proposals to: Economic Development Administration, Austin Regional Office, 327 Congress Avenue, Suite 200, Austin, Texas 78701-365, Telephone: (512) 381-8144, Fax: (512) 381-8177.

For applicants in Illinois, Indiana, Michigan, Minnesota, Ohio or Wisconsin, please send proposals to: Economic Development Administration, Chicago Regional Office, 111 North Canal Street, Suite 855, Chicago, IL 60606, Telephone: (312) 353-7706, Fax: (312) 353-8575.

For applicants in Colorado, Iowa, Kansas, Missouri, Montana, Nebraska, North Dakota, South Dakota, Utah or Wyoming, please send proposals to: Economic Development Administration, Denver Regional Office, 1244 Speer Boulevard, Room 670, Denver, Colorado 80204, Telephone: (303) 844-4715, Fax: (303) 844-3968.

For applicants in Connecticut, Delaware, District of Columbia, Maine, Maryland, Massachusetts, New Hampshire, New Jersey, New York, Pennsylvania, Puerto Rico, Rhode Island, Vermont, U.S. Virgin Islands or West Virginia, please send proposals to: Economic Development Administration, Philadelphia Regional Office, Curtis Center, 601 Walnut Street, Suite 140 South, Philadelphia, PA 19106, Telephone: (215) 597-4603, Fax: (215) 597-1063.

For applicants in Alaska, American Samoa, Arizona, California, Guam, Hawaii, Idaho, Marshall Islands, Micronesia, Nevada, Northern Mariana Islands, Oregon or Washington, please send proposals to: Economic Development Administration, Seattle Regional Office, Jackson Federal Building, Room 1890, 915 Second Avenue, Seattle, Washington 98174, Telephone: (206) 220-7660, Fax: (206) 220-7669.

The text of the full Federal Funding Opportunity announcement can be accessed at EDA's Web site, http://www.eda.gov.

FOR FURTHER INFORMATION CONTACT: For additional information or for a copy of the full funding opportunity announcement for this request for proposals, contact the appropriate EDA regional office listed above.

SUPPLEMENTARY INFORMATION: Electronic Access: EDA is not currently able to accept electronic submission of proposal packages. However, the full funding opportunity announcement for the FY 2004 Economic Development Assistance Programs competition is available through EDA's Web site, http://www.eda.gov, and through Grants.gov at http://www.grants.gov.

Funding Availability: Funds in the amount of $285,083,000 have been appropriated for EDA programs in FY 2004 and shall remain available until expended.

Statutory Authority: Pub. L. 89-136, 42 U.S.C. 3121, as amended by Pub. L. 105-393; Pub. L. 93-618, 98-120, 98-369, 99-272, 99-514, 100-418, 103-66, 105-277, 107-210, 19 U.S.C. 2341-2391 et seq.

CFDA: 11.300 Grants for Public Works and Economic Development Facilities; 11.302 Economic Development—Support for Planning Organizations; 11.303 Economic Development—Technical Assistance; 11.307 Economic Adjustment Assistance; 11.312 Economic Development—Research and Evaluation; 11.313 Economic Development—Trade Adjustment Assistance.

Eligibility: Eligible applicants for and eligible recipients of EDA financial assistance are defined at 13 CFR 300.2. An “area” is an eligible recipient and is defined at 13 CFR 301.2. One category of the areas eligible for financial assistance are those areas meeting the “special needs” criteria as defined in 13 CFR 301.2(b)(3).

Cost Sharing Requirements: Ordinarily the amount of the EDA grant may not exceed 50 percent of the cost of the project. Cash or in-kind contributions, fairly evaluated by EDA, including contributions of space, equipment, and services, may provide the non-Federal share of the project cost. In-kind contributions must be eligible project costs and meet applicable Federal cost principles and uniform administrative requirements.

EDA may supplement the Federal share of a grant project where the applicant is able to demonstrate that the non-Federal share that would otherwise be required cannot be provided because of the overall economic situation. Potential applicants should contact the appropriate EDA office to make this determination.

Intergovernmental Review: Applications under this program are subject to Executive Order 12372, “Intergovernmental Review of Federal Programs.”

Evaluation and Selection Procedures: Each pre-application proposal is circulated by a project officer to the appropriate regional office staff for review, comments, and recommendations. When the necessary input and information are obtained, the pre-application proposal is considered by the regional office Investment Review Committee (IRC) made up of regional office staff. The IRC discusses the proposal and all pertinent documentation and evaluates it on two levels of analysis: (a) fulfillment of the Investment Policy Guidelines set forth below; and (b) the general evaluation criteria set forth at 13 CFR 304.1 and 304.2 as further defined by the Funding Priorities set forth in this notice below, and the program specific criteria provided under 13 CFR 305.2 for Public Works, 13 CFR 306.2 for Planning Assistance, 13 CFR 307.2 for Technical Assistance, 13 CFR 307.6 for University Centers, 13 CFR 307.10 for National Technical Assistance, Training, Research, and Evaluation, 13 CFR 308.2 and 308.4 for Economic Adjustment and 13 CFR 315.5 and 315.6 for Trade Adjustment Assistance for Firms. University Center funding proposals will be evaluated pursuant to a separate Federal Funding Opportunity notice published on April 15, 2004 (69 FR 19973).

After completing its evaluation, the IRC recommends whether or not an application should be invited, documenting its recommendation in the meeting minutes or in the Investment Proposal Summary and Evaluation Form. The IRC analysis of the project's fulfillment of the Investment Policy Guidelines is reviewed at EDA headquarters for quality assurance. After receiving quality control clearance, the Selecting Official (depending on the program, either the Regional Director or the Assistant Secretary) selects the applications to be invited after considering the evaluations provided by the IRC and the degree to which one or more of the Funding Priorities are included (or packaged together) in making his/her decision as to which preapplication proposals should be invited. The Selecting Official then formally invites the successful proponent to submit a formal application. If the Selecting Official declines to invite a full application, he/she provides written notice to the proponent. In the case of a continuation grant, no pre-application proposal is required. Proposals received after the date of this notice will be processed in accordance with the requirements set forth herein until the next annual FFO is published.

If a successful proponent submits a formal application, it is reviewed by EDA program officials to determine whether it contains any deficiencies under EDA regulations at 13 CFR chapter III and the requirements of this notice. If deficiencies are noted, the applicant is provided a written request to amend the application to resolve any deficiencies. If deficiencies are not resolved 30 days after receipt of the written notice, the application may be rejected. If the full application is accepted, the applicant and EDR are notified and it is forwarded for final reviews and processing in accordance with EDA and DOC procedures.

Evaluation Criteria: EDA investment proposals will be competitively evaluated primarily on their ability to meet or exceed the following Investment Policy Guidelines (each criterion will be given equal weight):

1. Be market-based and results driven. An investment will capitalize on a region's competitive strengths and will positively move a regional economic indicator measured on EDA's Balanced Scorecard, such as: An increased number of higher-skill, higher-wage jobs; increased tax revenue; or increased private sector investment.

2. Have strong organizational leadership. An investment will have strong leadership, relevant project management experience, and a significant commitment of human resources talent to ensure a project's successful execution.

3. Advance productivity, innovation, and entrepreneurship. An investment will embrace the principles of entrepreneurship, enhance regional clusters, and leverage and link technology innovators and local universities to the private sector to create the conditions for greater productivity, innovation, and job creation.

4. Look beyond the immediate economic horizon, anticipate economic changes, and diversify the local and regional economy. An investment will be part of an overarching, long term comprehensive economic development strategy that enhances a region's success in achieving a rising standard of living by supporting existing industry clusters, developing emerging new clusters, or attracting new regional economic drivers.

5. Demonstrate a high degree of commitment by exhibiting:

• High levels of local government or non-profit matching funds and private sector leverage;

• Clear and unified leadership and support by local elected officials; and

• Strong cooperation between the business sector, relevant regional partners and local, State and Federal governments.

Highly rated preapplication proposals may or may not be invited to submit full applications based on the following Funding Priorities. Generally, all EDA proposals and applications should enhance regional competitiveness and support long-term development of the regional economy. Further priority will be given to proposals that:

1. Encourage innovation and regional competitiveness:

a. Reflect coordination of strong regional leadership committed to regional cluster development;

b. Encourage a formal organization structure and process for working on cluster development and maintaining consensus;

c. Encourage a common vision and collaboration among firms, universities, and training centers to implement a cluster strategy;

d. Establish research and industrial parks that encourage innovation-based competition;

e. Implement cluster-focused and innovation-focused business development efforts; and

f. Develop or implement coordinated economic and workforce development strategies.

2. Upgrade core business infrastructure such as:

a. Transportation infrastructure;

b. Communications infrastructure; and

c. Specialized training program infrastructure.

3. Help communities plan and implement economic adjustment strategies in response to sudden and severe economic dislocation. Specifically, EDA will give highest priority to support manufacturing-impacted communities by:

a. Helping communities that experience manufacturing job losses (e.g., major layoffs, plant closures or trade impacts); and

b. Supporting innovation and competitiveness in American manufacturing.

4. Support technology-led economic development, for example, proposals that:

a. Reflect the important role of research and development capacity of universities in regional development; and

b. Create and support technology transfers.

5. Advance community and faith-based social entrepreneurship in redevelopment strategies for areas of chronic economic distress.

The Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation, and are available on EDA's Web site, www.eda.gov.

Paperwork Reduction Act

This document contains collection-of-information requirements subject to the Paperwork Reduction Act (PRA). The use of Form ED-900P has been approved by OMB under the control number 0610-0094. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comments are not required by the Administrative Procedure Act or any other law for this notice concerning grants, benefits and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: April 22, 2004.
David A. Sampson,
Assistant Secretary for Economic Development.

[FR Doc. 04-9810 Filed 4-29-04; 8:45 am]

BILLING CODE 3510-24-P